DEPARTMENT OF HEALTH AND HUMAN SERVICES

Administration for Children and Families

Proposed Information Collection Activity; Survey of the National Survey of Child and Adolescent Well-Being (NSCAW) Adopted Youth, Young Adults, and Adoptive Parents (New Collection)

AGENCY: Office of Planning, Research and Evaluation; Administration for Children and Families; HHS.

ACTION: Request for Public Comment.

SUMMARY: The Administration for Children and Families (ACF) at the U.S. Department of Health and Human Services (HHS) seeks approval for a one-time study to examine familial outcomes 8 or more years after a child's adoption from the child welfare system. The primary objective of this study is to estimate the prevalence of instability events that occur in families who have adopted children who have exited the foster care system. The second objective is to understand risk and protective factors associated with post adoption instability.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research and Evaluation, 330 C Street SW, Washington, DC 20201, Attn: OPRE Reports Clearance Officer. All requests emailed or written should be identified by the title of the information collection.

SUPPLEMENTARY INFORMATION:

Description: The proposed study would conduct web or telephone surveys with adopted youth, young adults, and adults as well as adoptive parents who were participants in the first or second cohort of NSCAW (NSCAW I, II; OMB #0970-0202). The surveys are designed to collect information about instability events (such as foster care re-entry or running away that occurred after a child's adoption) as well as family functioning, perceptions of the adoption relationship, and services and support received after adoption.

Respondents: Adopted youth, young adults, adults, and their associated adoptive parents who participated in NSCAW I or II.

Annual Burden Estimates
Instrument | Total/annual number of respondents | Number of responses per respondent | Average burden hours per response | Annual burden hours
Survey of NSCAW Adopted Youth, Young Adults, and Adults | 588 | 1 | .5 | 294
Survey of NSCAW Adoptive Parents | 554 | 1 | .5 | 277

Estimated Total Annual Burden Hours: 571

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Authority: Child Abuse Prevention and Treatment and Adoption Reform Act of 1978.

Mary B. Jones,
ACF/OPRE Certifying Officer.

[FR Doc. 2020-06491 Filed 3-27-20; 8:45 am]

BILLING CODE 4184-25-P